DEPARTMENT OF TRANSPORTATION

Federal Aviation Administration

14 CFR Part 39

[Docket No. FAA-2008-0887; Directorate Identifier 2007-NM-336-AD; Amendment 39-15735; AD 2008-23-14]

RIN 2120-AA64

Airworthiness Directives; BAE Systems (Operations) Limited Model BAe 146 and Avro 146-RJ Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During inspection of undercarriage main beam sidestays, bolts attaching the undercarriage main beam sidestay to frame 29 were found with the heads of the bolts sheared off. Loose bolt assemblies were also found.

If sheared or loose bolts are not detected and replaced, a possible consequence is the collapse of the main landing gear.

* * * * *

We are issuing this AD to require actions to correct the unsafe condition on these products.

DATES: This AD becomes effective December 26, 2008.

The Director of the Federal Register approved the incorporation by reference of a certain publication listed in this AD as of December 26, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a notice of proposed rulemaking (NPRM) to amend 14 CFR part 39 to include an AD that would apply to the specified products. That NPRM was published in the Federal Register on August 21, 2008 (73 FR 49364). That NPRM proposed to correct an unsafe condition for the specified products. The MCAI states:

During inspection of undercarriage main beam sidestays, bolts attaching the undercarriage main beam sidestay to frame 29 were found with the heads of the bolts sheared off. Loose bolt assemblies were also found.

If sheared or loose bolts are not detected and replaced, a possible consequence is the collapse of the main landing gear.

For the reasons described above, this Airworthiness Directive (AD) requires a one-time [rotating eddy current] inspection of the bolt bores and bore dimensions and the installation of replacement bolts, as necessary.

Corrective actions include contacting BAE Systems (Operations) Limited for repair instructions and repair, if necessary. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 1 product of U.S. registry. We also estimate that it will take about 24 work-hours per product to comply with the basic requirements of this AD. The average labor rate is $80 per work-hour. Required parts will cost about $1,000 per product. Where the service information lists required parts costs that are covered under warranty, we have assumed that there will be no charge for these parts. As we do not control warranty coverage for affected parties, some parties may incur costs higher than estimated here. Based on these figures, we estimate the cost of this AD to the U.S. operators to be $2,920, or $2,920 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-23-14 BAE Systems (Operations) Limited (Formerly British Aerospace Regional Aircraft): Amendment 39-15735. Docket No. FAA-2008-0887; Directorate Identifier 2007-NM-336-AD.

Effective Date

(a) This airworthiness directive (AD) becomes effective December 26, 2008.

Affected ADs

(b) None.

Applicability

(c) This AD applies to all BAE Systems (Operations) Limited Model BAe 146-100A, -200A, and -300A series airplanes; and Model Avro 146-RJ70A, 146-RJ85A, and 146-RJ100A airplanes; certificated in any category.

Subject

(d) Air Transport Association (ATA) of America Code 53: Fuselage.

Reason

(e) The mandatory continuing airworthiness information (MCAI) states:

During inspection of undercarriage main beam sidestays, bolts attaching the undercarriage main beam sidestay to frame 29 were found with the heads of the bolts sheared off. Loose bolt assemblies were also found.

If sheared or loose bolts are not detected and replaced, a possible consequence is the collapse of the main landing gear.

For the reasons described above, this Airworthiness Directive (AD) requires a one-time [rotating eddy current] inspection of the bolt bores and bore dimensions and the installation of replacement bolts, as necessary.

Corrective actions include contacting BAE Systems (Operations) Limited for repair instructions and repair, if necessary.

Actions and Compliance

(f) Unless already done, do the following actions.

(1) Within 4,000 flight cycles or 5 years, whichever occurs first after the effective date of this AD, perform the inspections to detect defects (including sheared or loose bolts) and do the bolt replacements in accordance with the instructions of paragraphs 2.C.(1) through 2.C.(3), and paragraphs 2.D.(1) through 2.D.(3), of the Accomplishment Instructions of BAE Systems (Operations) Limited Inspection Service Bulletin ISB.53-194, dated January 10, 2007, except as required by paragraphs (f)(2), (f)(3), and (f)(4) of this AD.

(2) If any defect is found during the inspection specified in paragraph (f)(1) of this AD, before further flight, replace the affected bolts in accordance with the Accomplishment Instructions of BAE Systems (Operations) Limited Inspection Service Bulletin ISB.53-194, dated January 10, 2007, except as required by paragraphs (f)(3) and (f)(4) of this AD.

(3) For airplanes on which replacement parts are not available during the replacement specified in paragraph (f)(2) of this AD, do the actions in paragraphs (f)(3)(i) and (f)(3)(ii) of this AD in accordance with the Accomplishment Instructions of BAE Systems (Operations) Limited Inspection Service Bulletin ISB.53-194, dated January 10, 2007.

(i) Before further flight, temporarily reinstall removed oversized bolts, provided the bolts are serviceable.

(ii) Within 2,000 flight cycles after doing the inspection required by paragraph (f)(1) of this AD, replace all temporary oversized bolts that were installed in accordance with paragraph (f)(3)(i) of this AD.

(4) Where BAE Systems (Operations) Limited Inspection Service Bulletin ISB.53-194, dated January 10, 2007, specifies to contact BAE Systems (Operations) Limited if any defect is found in the second oversize fastener bore, before further flight, contact BAE Systems (Operations) Limited for repair instructions and do the repair.

FAA AD Differences

Note 1: This AD differs from the MCAI and/or service information as follows: No differences.

Other FAA AD Provisions

(g) The following provisions also apply to this AD:

(1) Alternative Methods of Compliance (AMOCs): The Manager, International Branch, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2007-0277, dated November 5, 2007; and BAE Systems (Operations) Limited Inspection Service Bulletin ISB.53-194, dated January 10, 2007; for related information.

Material Incorporated by Reference

(i) You must use BAE Systems (Operations) Limited Inspection Service Bulletin ISB.53-194, dated January 10, 2007, to do the actions required by this AD, unless the AD specifies otherwise.

(1) The Director of the Federal Register approved the incorporation by reference of this service information under 5 U.S.C. 552(a) and 1 CFR part 51.

(2) For service information identified in this AD, contact BAE Systems Regional Aircraft, 13850 McLearen Road, Herndon, Virginia 20171; telephone 703-736-1080; e-mail raebusiness@baesystems.com; Internet http://www.baesystems.com/Businesses/RegionalAircraft/index.htm.

(3) You may review copies at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Issued in Renton, Washington, on November 4, 2008.
Stephen P. Boyd,
Assistant Manager, Transport Airplane Directorate, Aircraft Certification Service.

[FR Doc. E8-26918 Filed 11-19-08; 8:45 am]

BILLING CODE 4910-13-P